DEPARTMENT OF THE INTERIOR

Bureau of Land Management

[WO-320-1330-PE-24 1A]

Extension of Approved Information Collection, OMB Approval Number 1004-0041

AGENCY: Bureau of Land Management, Interior.

ACTION: Notice and request for comments.

SUMMARY: The Bureau of Land Management (BLM) has submitted an Information Collection Request (ICR) to OMB for review and approval. The ICR is scheduled to expire on March 31, 2008. The BLM may not conduct or sponsor and a person is not required to respond to a collection of information unless it displays a currently valid OMB control number. However, under OMB regulations, the BLM may continue to conduct or sponsor this information collection while it is pending at OMB. On May 8, 2007, the BLM published a notice in the Federal Register (72 FR 26149) requesting comment on this information collection. The comment period closed on July 9, 2007. The BLM received no comments. You may obtain copies of the collection of information and related forms and explanatory material by contacting the BLM Information Collection Clearance Officer at the telephone number listed in the ADDRESSES section below.

DATES: The OMB is required to respond to this request within 60 days but may respond after 30 days. Submit your comments to OMB at the address below by April 25, 2008 to receive maximum consideration.

ADDRESSES: Send your comments and suggestions on this ICR to the Desk Officer for the Department of the Interior at OMB-OIRA at (202) 395-6566 (fax) or OIRA_DOCKET@OMB.eop.gov (e-mail). Please provide a copy of your comments to Alexandra Ritchie, Information Collection Clearance Officer, Bureau of Land Management, at U.S. Department of the Interior, Bureau of Land Management, Mail Stop 401LS, 1849 C Street, NW., Washington, DC 20240. Additionally, you may contact Alexandra Ritchie regarding this ICR at (202) 452-0388 (phone); (202) 653-5287 (fax); or Alexandra_Ritchie@blm.gov (e-mail).

FOR FURTHER INFORMATION CONTACT: For program-related questions, contact Ken Visser on (775) 861-6492 (Commercial or FTS). Persons who use a telecommunications device for the deaf (TDD) may call the Federal Information Relay Service (FIRS) at 1-800-877-8330, 24 hours a day, seven days a week, to contact Mr. Visser. For questions regarding this ICR or the information collection process, contact Alexandra Ritchie by phone, mail, fax, or e-mail (see ADDRESSES).

SUPPLEMENTARY INFORMATION: OMB Control Number: 1004-0041.

Title: Authorizing Grazing Use, 43 CFR 4110 and 4130.

Bureau Form Number: 4130-1, 4130-1a, 4130-1b, 4130-3a, 4130-4 and 4130-5.

Type of Request: Extension of currently approved collection.

Affected Public: Private sector.

Respondent's Obligation: Required to obtain or retain a benefit.

Frequency of Collection: Annually or on occasion (applicants may request changes of grazing use within the terms and conditions of permits or leases at different times).

Activity | Number of annual respondents | Number of annual responses (X) | Completion time per response (hour fraction) (=) | Annual burden hours
43 CFR 4130.1-1 Form 4130-1 | 3,000 | 3,000 | ¼ | 750
43 CFR 4110.1(d); 4110.2-1(c) Form 4130-1a | 1,050 | 1,050 | ½ | 525
43 CFR 4110.1(a)-(d); 4130.7(d)-(f) Form 4130-1b | 1,050 | 1,050 | ½ | 525
43 CFR 4110.1(d) and 4110.2-1(c) Non-form requirements | 1,050 | 1,050 | ⅙ | 175
43 CFR 4130.4(a)-(b) Form 4130-3a | 7,690 | 7,690 | ¼ | 1,922.5
43 CFR 4130.6-1(a)-(b) Form 4130-4 | 10 | 10 | ¼ | 2.5
43 CFR 4130.3-2(d) Form 4130-5 | 15,000 | 15,000 | ¼ | 3,750
Totals | 28,850 | 28,850 |  | 7,650

Application Processing Fee: The respondents incur a $10 service charge for processing a grazing preference transfer, which includes submission, as a single package, of forms 4130-1, 4130-1a and 4130-1b. Respondents also incur a $10 service charge that results in modifying or canceling and replacing a previously issued grazing fee billing. The form to be filed for that action is 4130-1. Based on these assumptions, the total annual cost to respondents would be:

Forms 4130-1, 4130-1a, 4130-1b filed as part of transfer application | 1050 responses × $10 = $10,500
Form 4130-1 filed independent of a transfer application (3000−1050 =1950 responses) | 1950 responses × $10 = $19,500
| Total: $30,000

The BLM grazing regulations were modified in 2006 to increase the service charge for transfers to $145 and for canceling or replacing a previously issued grazing fee bill to $50, among other things. However, the 2006 BLM rulemaking that changed these regulations were enjoined “in all respects” by the Idaho Federal District Court (for reasons other than the changes to the service charge schedule) in June, 2007. A final judgment by the Court affirming this injunction was entered on February 28, 2008, and it is now subject to appeal.

Abstract: The Taylor Grazing Act of 1934 (43 U.S.C. 315, 315a through 315r) and the Federal Land Policy and Management Act of 1976 (43 U.S.C. et seq.) authorize the Bureau of Land Management (BLM) to administer the livestock grazing program consistent with land use plans, multiple use objectives, sustained yield, environmental values, economic considerations, and other factors. The BLM must maintain accurate records on:

(1) Permittee and lessee qualifications for a grazing permit or lease;

(2) Base property used in conjunction with public lands; and

(3) The actual use made by livestock authorized to graze on the public lands.

The BLM also collects non-form information on grazing management from permittees and lessees.

Form 4130-1, Grazing Schedule

The BLM uses the information required on this form to adjudicate conflicting requests for grazing use, determine the legal qualifications of applicants, issue permits, and document transfers.

Form 4130-1a, Grazing Application—Preference Summary

The BLM uses the information required on this form to verify what the BLM needs to effectuate a grazing preference transfer.

Form 4130-1b, Grazing Application (Supplemental Information)

The BLM uses the information required on this form to certify an applicant's qualifications for a grazing permit or lease and to provide other information necessary for the administration of the grazing permit or lease.

Form 4130-3a, Automated Grazing Application

The BLM uses the information required on this form to approve changes of grazing use within the terms and conditions of permits or leases.

Form 4130-4, Exchange of Use Grazing Agreement

The BLM uses the information required on this form to exchange grazing of livestock on private lands during certain periods.

Form 4130-5, Actual Grazing Use Report

The BLM uses the information required on this form to determine whether we need to adjust the amount of grazing use or if other management actions are needed. This form enables the BLM to calculate billings and to monitor and evaluate livestock grazing use on the public lands.

Comments: We again specifically request your comments on the following:

(1) Whether the collection of information is necessary for the proper functioning of the BLM, including whether the information will have practical utility;

(2) The accuracy of the BLM's estimate of the burden of collecting the information, including the validity of the methodology and assumptions used;

(3) The quality, utility and clarity of the information we collect; and

(4) How to minimize the burden of collecting the information on those who are to respond, including the use of appropriate automated electronic, mechanical, or other forms of information technology.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: March 20, 2008.
Alexandra Ritchie,
Bureau of Land Management, Information Collection Clearance Officer.

[FR Doc. E8-6104 Filed 3-25-08; 8:45 am]

BILLING CODE 4310-84-P